DEPARTMENT OF COMMERCE

Bureau of Industry and Security

15 CFR Parts 772 and 774

[Docket No. 070411084-7087-02]

RIN 0694-AD96

Revisions to the Export Administration Regulations Based on the 2006 Missile Technology Control Regime Plenary Agreements

AGENCY: Bureau of Industry and Security, Commerce.

ACTION: Final Rule.

SUMMARY: The Bureau of Industry and Security (BIS) is amending the Export Administration Regulations (EAR) to reflect changes to the Missile Technology Control Regime (MTCR) Annex that were agreed to by MTCR member countries at the October 2006 Plenary in Copenhagen, Denmark. The amendments set forth in this rule also include adding a new Export Control Classification Number (ECCN) 7A107 to control three axis magnetic heading sensors designed or modified to be integrated with flight control and navigation systems.

DATES: This rule is effective May 7, 2007. Although there is no formal comment period, public comments on this regulation are welcome on a continuing basis.

ADDRESSES: You may submit comments, identified by RIN 0694-AD96, by any of the following methods:

E-mail: publiccomments@bis.doc.gov Include “RIN 0694-AD96” in the subject line of the message.

Fax: (202) 482-3355. Please alert the Regulatory Policy Division, by calling (202) 482-2440, if you are faxing comments.

Mail or Hand Delivery/Courier: Timothy Mooney, U.S. Department of Commerce, Bureau of Industry and Security, Regulatory Policy Division, 14th St. & Pennsylvania Avenue, NW., Room 2705, Washington, DC 20230, Attn: RIN 0694-AD96.

Send comments regarding the collection of information associated with this rule, including suggestions for reducing the burden, to David Rostker, Office of Management and Budget (OMB), by e-mail to David_Rostker@omb.eop.gov, or by fax to (202) 395-7285; and to the Regulatory Policy Division, Bureau of Industry and Security, Department of Commerce, P.O. Box 273, Washington, DC 20044. Comments on this collection of information should be submitted separately from comments on the final rule (i.e. RIN 0694-AD96)—all comments on the latter should be submitted by one of the three methods outlined above.

FOR FURTHER INFORMATION CONTACT: Dennis L. Krepp, Nuclear and Missile Technology Controls Division, Bureau of Industry and Security, Telephone: (202) 482-1309.

SUPPLEMENTARY INFORMATION:

Background

The Missile Technology Control Regime (MTCR) is an export control arrangement among 34 nations, including the world's most advanced suppliers of ballistic missiles and missile-related materials and equipment. The regime establishes a common export control policy based on a list of controlled items (the Annex) and on guidelines (the Guidelines) that member countries implement in accordance with their national export controls. The goal of maintaining the Annex and the Guidelines is to stem the flow in the global marketplace of missile systems capable of delivering weapons of mass destruction.

The MTCR was originally created to prevent the spread of missiles capable of carrying a nuclear warhead; it was expanded in January 1993 to also stem the flow of delivery systems for chemical and biological weapons. MTCR members voluntarily pledge to apply the Regime's export Guidelines and to restrict the export of items contained in the Regime's Annex. The Regime's Guidelines are implemented through the national export control laws and policies of the regime members.

In January 1993, complete rocket systems and unmanned aerial vehicle systems that were capable of a “range” equal to or greater than 300 km, regardless of the payload, were added to the MTCR Annex (Category II, Item 19). This was based on concerns by MTCR members that rocket systems and unmanned aerial vehicle systems that were capable of a “range” equal to or greater than 300 km, but did not meet the 500 kg “payload” parameter from Category I of the MTCR Annex, were a proliferation concern. “Missiles” are defined in § 772.1 of the EAR as being “ ‘capable of' delivering at least 500 kilograms payload to a range of at least 300 kilometers.”

Prior to publication of this rule, the items controlled in ECCNs 1A102, 1C101, 1C107, 6A108, 6B108, 7A102, 7A103, 9A111 and 9B105 included the defined term “missile” meaning they were controlled only when they were “ ‘capable of' delivering at least 500 kilograms payload to a range of at least 300 kilometers.” To accommodate the change made in 1993, the MTCR members decided at the 2006 Plenary to clarify the controls applicable to these ECCNs by making it clear that the items in these ECCNs were controlled when used in systems that were capable of a range of at least 300km, regardless of the payload capacity. Therefore, this rule clarifies the scope of these ECCNs by replacing the defined term “missile” with new language controlling rockets, missiles, and unmanned aerial vehicles “capable of a range of at least 300 km” to these ECCNs.

Amendments to the Export Administration Regulations

In § 772.1 (Definitions of Terms as Used in the Export Administration Regulations), this rule amends definitions of the terms “range” and “payload.” Specifically this rule adds double quotes around the terms “range” and “payload” in these definitions to signify these are defined terms under the EAR.

The Commerce Control List (CCL) (Supplement No. 1 to Part 774 of the EAR) is amended to reflect changes to the MTCR Annex agreed to at the October 2006 Plenary in Copenhagen, Denmark.

Specifically the following ECCNs are amended:

ECCN 1A102 is amended by substituting the defined term “missiles” with new text to the heading to clarify the scope of the entry (MTCR Annex Change Category II: Item 6.C.2). Under the new text, the materials in this entry are controlled if they are usable for any rockets, missiles, or unmanned aerial vehicles capable of a range of at least 300 km, regardless of the payload capability. This change is expected to have no impact on BIS licensing activity, because these commodities are controlled by the Department of State under the International Traffic in Arms Regulations (ITAR).

ECCN 1C101 is amended by substituting the defined term “missiles” with new text to the heading to clarify the scope of the entry (MTCR Annex Change Category II: Item 17.A.1). Under the new text, the materials in this entry are controlled if they are usable for any rockets, missiles, or unmanned aerial vehicles capable of a range of at least 300km, regardless of the payload capability. This change is expected to have a minimal impact on licensing activity.

ECCN 1C107 paragraph (c) is amended by substituting the defined term “missile” with new text to clarify the scope of the entry (MTCR Annex Change Category II: Item 6.C.5). Under the new text, the materials in this entry are controlled if they are for use in missile radomes for any missile capable of a range of at least 300 km, regardless of the payload capability. This change is expected to have a minimal impact on licensing activity.

ECCN 1C107 is further amended by revising paragraph (d) to include additional text which adds reinforced silicon-carbide ceramics composites to the CCL (MTCR Annex Change Category II: Item 6.C.6). This material is being added to the EAR to address a concern raised by MTCR members at the Copenhagen Plenary that there is a proliferation concern in the use of this type of material for re-entry vehicles, nose tips and rocket motor nozzle flaps. BIS recognizes that there are also other commercial and civil uses for this material, but believes that the text is sufficiently focused to minimize the impact on industry. As such, BIS expects this change will have a minimal impact on licensing activity.

ECCN 1C111 paragraph (a)(3) is amended by rewording and adding additional text to clarify the scope and purpose of the entry (MTCR Annex Change Category II: Item 4.C.4.a). This amendment will help to clarify that the oxidizer substances identified in the ECCN are those useable in liquid propellant rocket engines, but allows that the substances themselves could be liquid or solid. This change is expected to have no impact on licensing activity.

ECCN 1C111 is further amended by adding a new paragraph (b)(5) and a technical note (MTCR Annex Change Category II: Item 4.C.5.f) which adds and defines the polymeric substance “polytetrahydrofuran polyethylene glycol (TPEG)” to the CCL. This substance is added as a result of its increasing use in MTCR-controlled rocket motors as a propellant binder. TPEG is believed to have minimal commercial use and therefore this change is expected to have a minimal impact on licensing activity.

ECCN 6A108 paragraph (b) is amended by substituting the defined term “missile” with new text to clarify the scope of the entry (MTCR Annex Change Category II: Item 12.A.5). Under this new text, the precision tracking systems in this entry are controlled if they are usable for any rocket, missile, or unmanned aerial vehicle capable of a range of at least 300 km, regardless of the payload capability. This change is expected to have a minimal impact on licensing activity.

ECCN 6A108 is further amended by deleting the control parameter of “0.5 mils” in paragraph (b)(2)(a) to clarify the control on these range instrumentation radars. The 0.5 mils control parameter was not equivalent to 3 milliradians, and therefore needed to be removed from that paragraph in order to not confuse the public regarding the correct control parameter for that paragraph, which is 3 milliradians. This clarification of the control parameter is expected to have no impact on licensing activity (MTCR Annex Category II: Item 12.A.5).

ECCN 6B108 is amended by substituting the defined term “missiles” with new text to the heading to clarify the scope of the entry (MTCR Annex Change Category II: Item 17.B.1). Under the new text, the radar cross section measurement systems in this entry are controlled if they are useable for any rockets, missiles, or unmanned aerial vehicles capable of a range of at least 300 km, regardless of the payload capability. This change is expected to have a minimal impact on licensing activity.

ECCN 7A002 paragraph (a)(2) and ECCN 7A102 are amended by adding technical notes to each of these ECCNs to define the term “stability” as it pertains to these MTCR defined gyros controlled on the CCL (MTCR Annex Change Category II: Item 9.A.4 Technical Notes). This amendment is made to bring these entries in line with current industry practice for defining these terms. This change is expected to have no impact on licensing activity.

ECCN 7A102 is further amended by substituting the defined term “missiles” with new text to the heading to clarify the scope of the entry (MTCR Annex Change Category II: Item 9.A.4). Under the new text, the gyros in this entry are controlled if they are usable in any rockets, missiles, or unmanned aerial vehicles capable of a range of at least 300 km, regardless of the payload capability. This change is expected to have a minimal impact on licensing activity.

ECCN 7A103 paragraphs (b) and (c) are amended by substituting the defined term “missiles” with new text to clarify the scope of the entry (MTCR Annex Change Category II: Item 9.A.1). Under the new text, the integrated flight instrument systems and navigation systems in this entry are controlled if they are designed or modified for use in any rockets, missiles, or unmanned aerial vehicles capable of a range of at least 300 km, regardless of the payload capability. This change is expected to have a minimal impact on licensing activity.

ECCN 7A107 is added to control three axis magnetic heading sensors designed or modified to be integrated with flight control and navigation systems (MTCR Annex Change Category II: Item 9.A.8). These three axis magnetic heading sensors are being added to the EAR to address a concern raised by MTCR members at the Copenhagen Plenary that there is a potential proliferation concern in the use of this type of equipment in Unmanned Aerial Vehicle (UAV) systems of concern. To conform with the addition of ECCN 7A107 to the EAR, this rule amends the headings of ECCNs 7D101 and 7E101, to include ECCN 7A107 in these software and technology entries, respectively (MTCR Annex Category II: Items 9.D.1 and 9.E.1). It is anticipated that this addition of one new MT controlled ECCN 7A107 and the conforming changes to ECCNs 7D101 and 7E101 will produce a slight increase in licensing activity.

ECCN 9A101 is amended by deleting the word “Lightweight” and the phrase “usable in ‘missiles’ ” from the heading text (MTCR Annex Change Category II: Item 3.A.1). This amendment will result in a more focused control on these engines, but this change is expected to have no impact on licensing activity.

ECCN 9A101 is further amended by deleting the unit “parts and accessories in $ value”. This unit is being removed from this ECCN, because parts and accessories are not controlled by this ECCN entry (MTCR Annex Category II: Item 3.A.1). This amendment is expected to have no impact on licensing activity.

ECCN 9A111 is amended by substituting the defined term “missiles” with new text to the heading to clarify the scope of the entry (MTCR Annex Change Category II: Item 3.A.2). Under the new text, the items in this entry are controlled if they are usable for any rockets, missiles, or unmanned aerial vehicles capable of a range of at least 300km, regardless of the payload capability. This change is expected to have no impact on BIS licensing activity, because these commodities are controlled by the Department of State under the International Traffic in Arms Regulations (ITAR).

ECCN 9A120 is amended by adding double quotes around the word “payload” in Technical Note 1 to identify the word as a defined term in the EAR. This amendment is expected to have no impact on licensing activity.

ECCN 9B105 is amended by substituting the defined term “missiles” with new text to the heading to clarify the scope of the entry (MTCR Annex Change Category II: Item 15.B.2). Under the new text, the wind tunnels in this entry are controlled when usable for any rocket, missile, or unmanned aerial vehicle systems capable of a range of at least 300 km, regardless of the payload capability, and their subsystems. This change is expected to have a minimal impact on licensing activity.

ECCN 9B117 paragraph (a) is amended by replacing the control parameter of “90 kN” with “68 kN” such that the text reads as follows, “* * *a thrust greater than 68 kN;” (MTCR Annex Change Category II: Item 15.B.3). This lowering of the test stand thrust capacity threshold is being made to the EAR to address a concern raised by MTCR members at the Copenhagen Plenary that there is a proliferation concern with this type of equipment and its usefulness in MTCR type systems. This change is expected to have a minimal impact on licensing activity.

ECCN 9C110 is amended by placing double quotes around the terms “specific tensile strength” and “specific modulus” in the heading text (MTCR Annex Change Category II: Item 6.C.1 Technical Notes) to indicate that these are defined terms in the CCL. This amendment will clarify the control text, but is expected to have no impact on licensing activity.

Savings Clause

Shipments of items removed from eligibility for a License Exception or export or reexport without a license (NLR) as a result of this regulatory action that were on dock for loading, on lighter, laden aboard an exporting or reexporting carrier, or en route aboard a carrier to a port of export or reexport, on May 7, 2007, pursuant to actual orders for export or reexport to a foreign destination, may proceed to that destination under the previous eligibility for a License Exception or export or reexport without a license (NLR) so long as they are exported or reexported before June 6, 2007. Any such items not actually exported or reexported before midnight, on June 6, 2007, require a license in accordance with this rule.

Although the Export Administration Act expired on August 20, 2001, the President, through Executive Order 13222 of August 17, 2001 (3 CFR, 2001 Comp. 783 (2002)), as extended by the Notice of August 3, 2006, 71 FR 44551 (Aug. 7, 2006), has continued the Export Administration Regulations under the International Emergency Economic Powers Act.

Rulemaking Requirements

1. This final rule has been determined to be not significant for purposes of E.O. 12866.

2. Notwithstanding any other provision of law, no person is required to respond to, nor shall any person be subject to a penalty for failure to comply with a collection of information, subject to the requirements of the Paperwork Reduction Act, unless that collection of information displays a currently valid Office of Management and Budget Control Number. This rule contains a collection of information subject to the Paperwork Reduction Act of 1980 (44 U.S.C. 3501 et seq.). This collection has been approved by the Office of Management and Budget under control number 0694-0088, “Multi-Purpose Application,” which carries a burden hour estimate of 58 minutes for a manual or electronic submission.

3. This rule does not contain policies with Federalism implications as that term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Timothy Mooney, Office of Exporter Services, Bureau of Industry and Security, Department of Commerce, P.O. Box 273, Washington, DC 20044.

List of Subjects

15 CFR Part 772

Exports.

15 CFR Part 774

Exports, Reporting and recordkeeping requirements.

Accordingly, parts 772 and 774 of the Export Administration Regulations (15 CFR parts 730-774) are amended as follows:

PART 772—[AMENDED]

1. The authority citation for 15 CFR part 772 continues to read as follows:

Authority: 50 U.S.C. app. 2401 et seq.; 50 U.S.C. 1701 et seq.; E.O. 13222, 66 FR 44025, 3 CFR, 2001 Comp., p. 783; Notice of August 3, 2006, 71 FR 44551 (August 7, 2006).

2. Section 772.1 is amended:

a. By revising the definition of “payload” and the “Note:” to that definition; and

b. By revising the definition of “range” (MTCR) and the “Technical Notes:” to that definition, as set forth below:

§ 772.1 Definitions of terms as used in the Export Administration Regulations (EAR).

* * * * *

Payload. (MTCR context)—The total mass that can be carried or delivered by the specified rocket system or unmanned aerial vehicle (UAV) system that is not used to maintain flight.

Note: The particular equipment, subsystems, or components to be included in the “payload” depends on the type and configuration of the vehicle under construction.

Technical Notes: * * *

* * * * *

Range. (MTCR context)—The maximum distance that the specified rocket system or unmanned aerial vehicle (UAV) system is capable of traveling in the mode of stable flight as measured by the projection of its trajectory over the surface of the Earth.

Technical Notes:

a. The maximum capability based on the design characteristics of the system, when fully loaded with fuel or propellant, will be taken into consideration in determining “range”.

b. The “range” for both rocket systems and UAV systems will be determined independently of any external factors such as operational restrictions, limitations imposed by telemetry, data links or other external constraints.

c. For rocket systems, the “range” will be determined using the trajectory that maximizes “range”, assuming ICAO standard atmosphere with zero wind.

d. For UAV systems, the “range” will be determined for a one-way distance using the most fuel-efficient flight profile (e.g. cruise speed and altitude), assuming ICAO standard atmosphere with zero wind.

* * * * *

PART 774—[AMENDED]

3. The authority citation for 15 CFR part 774 continues to read as follows:

Authority: 50 U.S.C. app. 2401 et seq.; 50 U.S.C. 1701 et seq.; 10 U.S.C. 7420; 10 U.S.C. 7430(e); 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 3, 2006, 71 FR 44551 (August 7, 2006).

4. In Supplement No. 1 to part 774 (the Commerce Control List), Category 1—Materials, Chemicals, “Microorganisms” & “Toxins”, Export Control Classification Number (ECCN) 1A102 is amended by revising the Heading, to read as follows:

Supplement No. 1 to Part 774—The Commerce Control List

* * * * *

1A102 Resaturated pyrolized carbon-carbon components designed for rockets, missiles, or unmanned aerial vehicles capable of achieving a “range” equal to or greater than 300km. (These items are subject to the export licensing authority of the U.S. Department of State, Directorate of Defense Trade Controls. See 22 CFR part 121).

* * * * *

5. In Supplement No. 1 to part 774 (the Commerce Control List), Category 1—Materials, Chemicals, “Microorganisms” & “Toxins”, Export Control Classification Number (ECCN) 1C101 is amended by revising the Heading, to read as follows:

1C101 Materials for Reduced Observables such as Radar Reflectivity, Ultraviolet/Infrared Signatures and Acoustic Signatures (i.e., Stealth Technology), Other than Those Controlled by 1C001, for applications usable in rockets, missiles, or unmanned aerial vehicles capable of achieving a “range” equal to or greater than 300km, and their subsystems.

* * * * *

6. In Supplement No. 1 to part 774 (the Commerce Control List), Category 1—Materials, Chemicals, “Microorganisms” & “Toxins”, Export Control Classification Number (ECCN) 1C107 is amended by revising paragraphs (c) and (d) of the “items” paragraph in the List of Items Controlled section, to read as follows:

1C107 Graphite and ceramic materials, other than those controlled by 1C007, which can be machined to any of the following products as follows (see List of Items Controlled).

* * * * *

List of Items Controlled

Unit: * * *

Related Controls: * * *

Related Definitions: * * *

Items:

* * * * *

c. Ceramic composite materials (dielectric constant is less than 6 at any frequency from 100 MHz to 100 GHz) for use in radomes useable in rockets, missiles, and unmanned aerial vehicles capable of achieving a “range” equal to or greater than 300 km; or

d. Silicon-Carbide materials, useable in rockets, missiles, and unmanned aerial vehicles capable of achieving a “range” equal to or greater than 300 km, as follows:

d.1. Bulk machinable silicon-carbide reinforced unfired ceramic, usable for nose tips.

d.2. Reinforced silicon-carbide ceramic composites usable for nose tips, re-entry vehicles, nozzle flaps.

7. In Supplement No. 1 to part 774 (the Commerce Control List), Category 1—Materials, Chemicals, “Microorganisms” & “Toxins”, Export Control Classification Number (ECCN) 1C111 is amended by revising the “items” paragraph in the List of Items Controlled section, to read as follows:

1C111 Propellants and constituent chemicals for propellants, other than those specified in 1C011, as follows (see List of Items Controlled).

* * * * *

List of Items Controlled

Unit: * * *

Related Controls: * * *

Related Definitions: * * *

Items:

a. Propulsive substances:

a.1. Spherical aluminum powder, other than that specified on the U.S. Munitions List, with particles of uniform diameter of less than 200 micrometer and an aluminum content of 97% by weight or more, if at least 10 percent of the total weight is made up of particles of less than 63 micrometer, according to ISO 2591:1988 or national equivalents such as JIS Z8820.

Technical Note: A particle size of 63 micrometer (ISO R-565) corresponds to 250 mesh (Tyler) or 230 mesh (ASTM standard E-11).

a.2. Metal fuels, other than that controlled by the U.S. Munitions List, in particle sizes of less than 60 × 10⁻⁶ m (60 micrometers), whether spherical, atomized, spheroidal, flaked or ground, consisting 97% by weight or more of any of the following:

a.2.a Zirconium;

a.2.b Beryllium;

a.2.c Magnesium; or

a.2.d Alloys of the metals specified by a.2.a to a.2.c above.

Technical Note: The natural content of hafnium in the zirconium (typically 2% to 7%) is counted with the zirconium.

a.3. Oxidizer substances usable in liquid propellant rocket engines, as follows:

a.3.a. Dinitrogen trioxide;

a.3.b. Nitrogendioxide/dinitrogen tetroxide;

a.3.c. Dinitrogen pentoxide;

a.3.d Mixed oxides of nitrogen (MON); a.3.e Inhibited red fuming nitric acid (IRFNA);

Technical Note: Mixed oxides of nitrogen (MON) are solutions of nitric oxide (NO) in dinitrogen tetroxide/nitrogen dioxide(N2O4NO2-) that can be used in missile systems. There are a range of compositions that can be denoted as MONi or MONij, where i and j are integers representing the percentage of nitric oxide in the mixture (e.g., MON3 contains 3% nitric oxide, MON25 25% nitric oxide. An upper limit is MON40, 40% by weight).

b. Polymeric substances:

b.1. Carboxy-terminated polybutadiene (CTPB);

b.2. Hydroxy-terminated polybutadiene (HTPB), other than that controlled by the U.S. Munitions List;

b.3. Polybutadiene-acrylic acid (PBAA);

b.4. Polybutadiene-acrylic acid -acrylonitrile (PBAN);

b.5 Polytetrahydrofuran polyethylene glycol (TPEG).

Technical Note: Polytetrahydrofuran polyethylene glycol (TPEG) is a block co-polymer of poly 1,4-Butanediol and polyethylene glycol (PEG).

c. Other propellant additives and agents:

c.1. Butacene;

c.2. Triethylene glycol dinitrate (TEGDN);

c.3. 2-Nitrodiphenylamine;

c.4. Trimethylolethane trinitrate (TMETN);

c.5. Diethylene glycol dinitrate (DEGDN).

8. In Supplement No. 1 to part 774 (the Commerce Control List), Category 6—Sensors and Lasers, Export Control Classification Number (ECCN) 6A108 is amended by revising the “items” paragraph in the List of Items Controlled section, to read as follows:

6A108 Radar systems and tracking systems, other than those controlled by 6A008, as follows (see List of Items Controlled).

* * * * *

List of Items Controlled

Unit: * * *

Related Controls: * * *

Related Definitions: * * *

Items:

a. Radar and laser radar systems designed or modified for use in “missiles”;

Note: 6A108.a includes the following:

a. Terrain contour mapping equipment;

b. Imaging sensor equipment;

c. Scene mapping and correlation (both digital and analog) equipment;

d. Doppler navigation radar equipment.

b. Precision tracking systems, usable for rockets, missiles, or unmanned aerial vehicles capable of achieving a “range” equal to or greater than 300 km, as follows:

b.1. Tracking systems which use a code translator installed on the rocket or unmanned aerial vehicle in conjunction with either surface or airborne references or navigation satellite systems to provide real-time measurements of in-flight position and velocity;

b.2. Range instrumentation radars including associated optical/infrared trackers with all of the following capabilities:

b.2.a. Angular resolution better than 3 milliradians;

b.2.b. Range of 30 km or greater with a range resolution better than 10 m rms;

b.2.c. Velocity resolution better than 3 m/s.

9. In Supplement No. 1 to part 774 (the Commerce Control List), Category 6—Sensors and Lasers, Export Control Classification Number (ECCN) 6B108 is amended by revising the Heading, to read as follows:

6B108 Systems, other than those controlled by 6B008, specially designed for radar cross section measurement usable for rockets, missiles, or unmanned aerial vehicles capable of achieving a “range” equal to or greater than 300 km and their subsystems.

* * * * *

10. In Supplement No. 1 to part 774 (the Commerce Control List), Category 7—Navigation and Avionics, Export Control Classification Number (ECCN) 7A002 is amended by revising the “items” paragraph in the List of Items Controlled section, to read as follows:

7A002 Gyros, and angular or rotational accelerometers, having any of the following characteristics (see List of Items Controlled), and specially designed components therefor.

* * * * *

List of Items Controlled

Unit: * * *

Related Controls: * * *

Related Definitions: * * *

Items:

a. A “drift rate” ‘stability', when measured in a 1 g environment over a period of one month and with respect to a fixed calibration value, of:

Technical Notes: For the purpose of 7A002.a, ‘stability' is defined as a measure of the ability of a specific mechanism or performance coefficient to remain invariant when continuously exposed to a fixed operating condition. (This definition does not refer to dynamic or servo stability.) (IEEE STD 528-2001 paragraph 2.247)

a.1. Less (better) than 0.1 degree per hour when specified to function at linear acceleration levels below 12 g; or

a.2. Less (better) than 0.5 degree per hour when specified to function at linear acceleration levels from 12 g to 100 g inclusive;

b. An angle random walk of less (better) than or equal to 0.0035 degree per square root hour; or

Note: 7A002.b does not control spinning mass gyros (spinning mass gyros are gyros which use a continually rotating mass to sense angular motion).

Technical Note: For the purpose of 7A002.b, ‘angle random walk' is the angular error buildup with time that is due to white noise in angular rate. (IEEE STD 528-2001)

c. Specified to function at linear acceleration levels exceeding 100 g.

11. In Supplement No. 1 to part 774 (the Commerce Control List), Category 7—Navigation and Avionics, Export Control Classification Number (ECCN) 7A102 is amended by revising the Heading and the “items” paragraph in the List of Items Controlled section, to read as follows:

7A102 All types of gyros, other than those controlled by 7A002, usable in rockets, missiles, or unmanned aerial vehicles capable of achieving a “range” equal to or greater than 300 km, with a rated “drift rate” ‘stability' of less than 0.5 degrees (1 sigma or rms) per hour in a 1 g environment and specially designed components therefor.

* * * * *

List of Items Controlled

Unit: * * *

Related Controls: * * *

Related Definitions: * * *

Items:

The list of items controlled is contained in the ECCN heading.

Technical Note: In this entry, the term ‘stability' is defined as a measure of the ability of a specific mechanism or performance coefficient to remain invariant when continuously exposed to a fixed operating condition. (This definition does not refer to dynamic or servo stability.) (IEEE STD 528-2001 paragraph 2.247)

12. In Supplement No. 1 to part 774 (the Commerce Control List), Category 7—Navigation and Avionics, Export Control Classification Number (ECCN) 7A103 is amended by revising the first sentence of the “related controls” paragraph and paragraphs (b) and (c) of the “items” paragraph in the List of Items Controlled section, to read as follows:

7A103 Instrumentation, navigation equipment and systems, other than those controlled by 7A003, and specially designed components therefor.

* * * * *

List of Items Controlled

Unit: * * *

Related Controls: (1) For rockets, missiles, or unmanned aerial vehicles controlled under the U.S. Munitions List (22 CFR part 121), items described in 7A103.b are subject to the export licensing authority of the U.S. Department of State, Directorate of Defense Trade Controls (See 22 CFR part 121). * * *

Related Definitions: * * *

Items:

* * * * *

b. Integrated flight instrument systems, which include gyrostabilizers or automatic pilots, designed or modified for use in rockets, missiles, or unmanned aerial vehicles capable of achieving a “range” equal to or greater than 300 km.

c. Integrated Navigation Systems, designed or modified for use in rockets, missiles, or unmanned aerial vehicles capable of achieving a “range” equal to or greater than 300 km and capable of providing a navigational accuracy of 200m Circular Error Probable (CEP) or less.

Technical Note: An ‘integrated navigation system' typically incorporates the following components:

1. An inertial measurement device (e.g., an attitude and heading reference system, inertial reference unit, or inertial navigation system);

2. One or more external sensors used to update the position and/or velocity, either periodically or continuously throughout the flight (e.g., satellite navigation receiver, radar altimeter, and/or Doppler radar); and

3. Integration hardware and software.

13. In Supplement No. 1 to part 774 (the Commerce Control List), Category 7—Navigation and Avionics, is amended by adding Export Control Classification Number (ECCN) 7A107 after ECCN 7A106 and before ECCN 7A115, to read as follows:

7A107 Three axis magnetic heading sensors having all of the following characteristics, and specially designed components therefor.

License Requirements

Reason for Control: MT, AT.

Control(s) | Country chart
MT applies to entire entry | MT Column 1.
AT applies to entire entry | AT Column 1.

License Exceptions

LVS: N/A

GBS: N/A

CIV: N/A

List of Items Controlled

Unit: $ value.

Related Controls: N/A.

Related Definitions: N/A.

Items:

a. Internal tilt compensation in pitch (+/−90 degrees) and roll (+/−180 degrees) axes;

b. Capable of providing azimuthal accuracy better (less) than 0.5 degrees rms at latitudes of +/−80 degrees, referenced to local magnetic field; and

c. Designed or modified to be integrated with flight control and navigation systems.

Note: Flight control and navigation systems in 7A107 include gyrostabilizers, automatic pilots and inertial navigation systems.

14. In Supplement No. 1 to part 774 (the Commerce Control List), Category 7—Navigation and Avionics, Export Control Classification Number (ECCN) 7D101 is amended by revising the Heading, to read as follows:

7D101 “Software” specially designed or modified for the “use” of equipment controlled by 7A001 to 7A006, 7A101 to 7A107, 7A115, 7A116, 7B001, 7B002, 7B003, 7B101, 7B102, or 7B103.

* * * * *

15. In Supplement No. 1 to part 774 (the Commerce Control List), Category 7—Navigation and Avionics, Export Control Classification Number (ECCN) 7E101 is amended by revising the Heading, to read as follows:

7E101 “Technology”, according to the General Technology Note for the “use” of equipment controlled by 7A001 to 7A006, 7A101 to 7A107, 7A115 to 7A117, 7B001, 7B002, 7B003, 7B101, 7B102, 7B103, or 7D101 to 7D103.

* * * * *

16. In Supplement No. 1 to part 774 (the Commerce Control List), Category 9—Propulsion Systems, Space Vehicles and Related Equipment, Export Control Classification Number (ECCN) 9A101 is amended by revising the Heading and the “unit” paragraph in the List of Items Controlled section, to read as follows:

9A101 Turbojet and turbofan engines (including turbocompound engines), other than those controlled by 9A001, as follows (see List of Items Controlled).

* * * * *

List of Items Controlled

Unit: Equipment in number

* * * * *

17. In Supplement No. 1 to part 774 (the Commerce Control List), Category 9—Propulsion Systems, Space Vehicles and Related Equipment, Export Control Classification Number (ECCN) 9A111 is amended by revising the Heading, to read as follows:

9A111 Pulse jet engines, usable in rockets, missiles, or unmanned aerial vehicles capable of achieving a “range” equal to or greater than 300km, and specially designed components therefor. (These items are subject to the export licensing authority of the U.S. Department of State, Directorate of Defense Trade Controls. See 22 CFR part 121.)

* * * * *

18. In Supplement No. 1 to part 774 (the Commerce Control List), Category 9—Propulsion Systems, Space Vehicles and Related Equipment, Export Control Classification Number (ECCN) 9A120 is amended by revising the “items” paragraph in the List of Items Controlled section, to read as follows:

9A120 Complete unmanned aerial vehicles, not specified in 9A012, having all of the following:

* * * * *

List of Items Controlled

Unit: * * *

Related Controls: * * *

Related Definitions: * * *

Items:

a. Having any of the following:

a.1. An autonomous flight control and navigation capability; or

a.2. Capability of controlled-flight out of the direct vision range involving a human operator; and

b. Having any of the following:

b.1. Incorporating an aerosol dispensing system/mechanism with a capacity greater than 20 liters; or

b.2. Designed or modified to incorporate an aerosol dispensing system/mechanism with a capacity of greater than 20 liters.

Note: 9A120 does not control model aircraft, specially designed for recreational or competition purposes.

Technical Notes:

1. An aerosol consists of particulate or liquids other than fuel components, by—products or additives, as part of the “payload” to be dispersed in the atmosphere. Examples of aerosols include pesticides for crop dusting and dry chemicals for cloud seeding.

2. An aerosol dispensing system/mechanism contains all above devices (mechanical, electrical, hydraulic, etc.), which are necessary for storage and dispersion of an aerosol into the atmosphere. This includes the possibility of aerosol injection into the combustion exhaust vapor and into the propeller slip stream.

19. In Supplement No. 1 to part 774 (the Commerce Control List), Category 9—Propulsion Systems, Space Vehicles and Related Equipment, Export Control Classification Number (ECCN) 9A105 is amended by revising the Heading, to read as follows:

9B105 Wind tunnels for speeds of Mach 0.9 or more, usable for rockets, missiles, or unmanned aerial vehicles capable of achieving a “range” equal to or greater than 300 km and their subsystems.

* * * * *

20. In Supplement No. 1 to part 774 (the Commerce Control List), Category 9—Propulsion Systems, Space Vehicles and Related Equipment, Export Control Classification Number (ECCN) 9B117 is amended by revising the “items” paragraph in the List of Items Controlled section, to read as follows:

9B117 Test benches and test stands for solid or liquid propellant rockets, motors or rocket engines, having either of the following characteristics (see List of Items Controlled).

* * * * *

List of Items Controlled

Unit: * * *

Related Controls: * * *

Related Definitions: * * *

Items:

a. The capacity to handle solid or liquid propellant rocket motors or rocket engines having a thrust greater than 68 kN; or

b. Capable of simultaneously measuring the three axial thrust components.

21. In Supplement No. 1 to part 774 (the Commerce Control List), Category 9—Propulsion Systems, Space Vehicles and Related Equipment, Export Control Classification Number (ECCN) 9C110 is amended by revising the Heading, to read as follows:

9C110 Resin impregnated fiber prepregs and metal coated fiber preforms therefor, for composite structures, laminates and manufactures specified in 9A110, made either with organic matrix or metal matrix utilizing fibrous or filamentary reinforcements having a “specific tensile strength” greater than 7.62 x 10⁴ m and a “specific modulus” greater than 3.18 x 10⁶ m.

* * * * *

Dated: May 1, 2007.
Christopher A. Padilla,
Assistant Secretary for Export Administration.

[FR Doc. E7-8685 Filed 5-4-07; 8:45 am]

BILLING CODE 3510-33-P